DEPARTMENT OF TRANSPORTATION

Federal Aviation Administration

14 CFR Part 39

[Docket No. FAA-2014-0584; Directorate Identifier 2014-NM-092-AD]

RIN 2120-AA64

Airworthiness Directives; Airbus Airplanes

AGENCY: Federal Aviation Administration (FAA), DOT.

ACTION: Notice of proposed rulemaking (NPRM).

SUMMARY: We propose to supersede Airworthiness Directive (AD) 2014-09-05, for certain Airbus Model A330-200 and -300 series airplanes, and Model A340-200 and -300 series airplanes. AD 2014-09-05 currently requires repetitive inspections of certain sidestay upper cardan pins of the main landing gear (MLG), and associated nuts and retainer assemblies, and pin replacement if necessary. Since we issued AD 2014-09-05, we have determined that a previously optional measurement is necessary to address the identified unsafe condition. We are proposing this AD to detect and correct migration of the sidestay upper cardan pin, which could result in disconnection of the sidestay upper arm from the airplane structure, and could result in a landing gear collapse and consequent damage to the airplane and injury to occupants.

DATES: We must receive comments on this proposed AD by October 10, 2014.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0584; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2014-0584; Directorate Identifier 2014-NM-092-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On April 16, 2014, we issued AD 2014-09-05, Amendment 39-17840 (79 FR 23909, April 29, 2014). AD 2014-09-05 requires actions intended to address an unsafe condition on certain Airbus Model A330-200 and -300 series airplanes, and Model A340-200 and -300 series airplanes.

Since we issued AD 2014-09-05, Amendment 39-17840 (79 FR 23909, April 29, 2014), we have determined that the optional measurement specified in that AD is necessary to address the identified unsafe condition.

The European Aviation Safety Agency (EASA), which is the Technical Agent for the Member States of the European Community, has issued EASA Airworthiness Directive 2014-0066, corrected March 20, 2014 (referred to after this as the Mandatory Continuing Airworthiness Information, or “the MCAI”), to correct an unsafe condition on certain Airbus Model A330-200 and -300 series airplanes, and Model A340-200 and -300 series airplanes. The MCAI states:

An A330 aeroplane equipped with Basic (main landing gear) MLG was rolling out after landing when it experienced a nose wheel steering fault (unrelated to the safety subject addressed by this [EASA] AD), which resulted in the crew stopping the aeroplane on the taxiway after vacating the runway.

The subsequent investigation revealed that the right-hand MLG sidestay upper cardan pin had migrated out of position. The sidestay upper cardan nut and retainer were found in the landing gear bay detached from the upper cardan pin. The nut and the retainer were still bolted together.

This condition, if not detected and corrected, could lead to a complete migration of the sidestay upper cardan pin and a disconnection of the sidestay upper arm from the aeroplane structure, possibly resulting in MLG collapse with consequent damage to the aeroplane and injury to occupants.

To address this potential condition, Airbus published Alert Operators Transmission (AOT) A32L003-14, providing inspection instructions.

For the reasons described above, this [EASA] AD requires accomplishment of repetitive [detailed inspections for visible chrome] of the MLG upper cardan pin, nut and retainer [and pin replacement if necessary]. This [EASA] AD also requires accomplishment of a gap check between wing rear spar fitting lugs and the bush flanges [and corrective actions if necessary. Corrective actions include repair or replacement of the cardan pin assembly].

You may examine the MCAI in the AD docket on the Internet at http://www.regulations.gov by searching for and locating Docket No. FAA-2014-0584.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

“Contacting the Manufacturer” Paragraph in This Proposed AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In an NPRM having Directorate Identifier 2012-NM-101-AD (78 FR 78285, December 26, 2013), we proposed to prevent the use of repairs that were not specifically developed to correct the unsafe condition, by requiring that the repair approval provided by the State of Design Authority or its delegated agent specifically refer to the FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

One commenter to the NPRM having Directorate Identifier 2012-NM-101-AD (78 FR 78285, December 26, 2013) stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this proposed AD to obtain corrective actions from a manufacturer, the actions must be accomplished using a method approved by the FAA, the European Aviation Safety Agency (EASA), or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this proposed AD.

Costs of Compliance

We estimate that this proposed AD affects 83 airplanes of U.S. registry.

The actions that are required by AD 2014-09-05, Amendment 39-17840 (79 FR 23909, April 29, 2014), and retained in this proposed AD take about 1 work-hour per product, at an average labor rate of $85 per work-hour. Required parts cost $0 per product. Based on these figures, the estimated cost of the actions that are required by AD 2014-09-05 is $85 per product.

We also estimate that it would take about 1 work-hour per product to comply with the basic requirements of this proposed AD. The average labor rate is $85 per work-hour. Based on these figures, we estimate the cost of this proposed AD on U.S. operators to be $7,055, or $85 per product.

In addition, we estimate that any necessary follow-on actions would take about 4 work-hours and require parts costing $7,530, for a cost of $7,870 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2014-09-05, Amendment 39-17840 (79 FR 23909, April 29, 2014), and adding the following new AD:

Airbus: Docket No. FAA-2014-0584; Directorate Identifier 2014-NM-092-AD.

(a) Comments Due Date

We must receive comments by October 10, 2014.

(b) Affected ADs

This AD replaces AD 2014-09-05, Amendment 39-17840 (79 FR 23909, April 29, 2014).

(c) Applicability

This AD applies to the airplanes identified in paragraphs (c)(1) and (c)(2) of this AD, certificated in any category.

(1) Airbus Model A330-201, A330-202, A330-203, A330-223, A330-243, A330-301, A330-302, A330-303, A330-321, A330-322, A330-323, A330-341, A330-342, and A330-343 airplanes, all manufacturer serial numbers (MSNs), equipped with basic (201252 series) main landing gear (MLG), or growth (201490 series) MLG.

(2) Airbus Model A340-211, A340-212, A340-213, A340-311, A340-312, and A340-313 airplanes, all MSNs, equipped with basic (201252 series) MLG or growth (201490 series) MLG.

(d) Subject

Air Transport Association (ATA) of America Code 32, Landing Gear.

(e) Reason

This AD was prompted by a report of a sidestay upper cardan pin of the MLG migrating out of position. We are issuing this AD to detect and correct migration of the sidestay upper cardan pin, which could result in disconnection of the sidestay upper arm from the airplane structure, and which could result in a landing gear collapse and consequent damage to the airplane and injury to occupants.

(f) Compliance

Comply with this AD within the compliance times specified, unless already done.

(g) Retained Repetitive Detailed Inspections With No Changes

This paragraph restates the requirements of paragraph (g) of AD 2014-09-05, Amendment 39-17840 (79 FR 23909, April 29, 2014), with no changes.

(1) For airplanes identified in paragraphs (g)(1)(i) and (g)(1)(ii) of this AD on which the affected MLG has exceeded 8 years since first overhaul, as of May 14, 2014 (the effective date of AD 2014-09-05, Amendment 39-17840 (79 FR 23909, April 29, 2014), except those MLG that have had a second overhaul: Within 30 days after May 14, 2014, accomplish a detailed inspection for visible chrome of each affected MLG sidestay upper cardan pin, and associated nut and retainer assembly, in accordance with the instructions of Airbus Alert Operators Transmission (AOT) A32L003-14, dated March 10, 2014, including Appendices 1, 2, and 3 (the issue date is not specified on the appendices).

(i) Airplanes equipped with any MLG sidestay upper cardan pin subassembly part number (P/N) 201267202 (on 201252 series MLG).

(ii) Airplanes equipped with any MLG sidestay upper cardan pin subassembly P/N 201483202 (on 201490 series MLG).

(2) If, during any inspection required by paragraph (g)(1) of this AD, no pin chrome is visible inboard of the wing rear spar fitting lug, repeat the detailed inspection for visible chrome specified in paragraph (g)(1) of this AD thereafter at intervals not to exceed 10 days.

(3) If, during any inspection required by paragraphs (g)(1) or (g)(2) of this AD, pin chrome is visible inboard of the wing rear spar fitting lug, before further flight, replace the affected cardan pin assembly, in accordance with the instructions of Airbus AOT A32L003-14, dated March 10, 2014, including Appendices 1, 2, and 3 (the issue date is not specified on the appendices). Replacement of the affected cardan pin assembly terminates the repetitive inspections required by paragraph (g)(2) of this AD.

Note 1 to paragraph (g) of this AD: MLG sidestay upper cardan pin subassembly P/N 201267202 (found in Airbus Illustrated Parts Catalogue (IPC) as item 32-11-18-01) includes the cardan pin P/N 201267600. MLG sidestay upper cardan pin subassembly P/N 201483202 (found in Airbus IPC as item 32-11-18-01) includes the cardan pin P/N 201483600.

(h) New Terminating Action—Gap Check

Within 4 months after the effective date of this AD: Measure the cardan pin clearance dimensions (gap check) and do the applicable corrective action specified in paragraph (h)(1) or (h)(2) of this AD. Measuring the gap check and doing the applicable corrective action specified in paragraph (h)(1) or (h)(2) of this AD, as applicable, terminates the repetitive inspections required by paragraphs (g)(1) and (g)(2) of this AD for that sidestay upper cardan pin, nut, and retainer only. The measurement must be done in accordance with Airbus AOT A32L003-14, dated March 10, 2014, including Appendices 1, 2, and 3 (the issue date is not specified on the appendices).

(1) If the total clearance dimension (gap check result) is equal to or greater than 1.5 mm, before further flight, replace the cardan pin assembly, in accordance with Airbus AOT A32L003-14, dated March 10, 2014, including Appendices 1, 2, and 3 (the issue date is not specified on the appendices).

(2) If the total clearance dimension (gap check) is less than 1.5 mm but greater than 0.6 mm, do the actions specified in paragraphs (h)(2)(i) and (h)(2)(ii) of this AD.

(i) Before further flight, send the information (Appendix 2 proforma, photographs, and the movement traceability sheet) specified in paragraph 4.2.3, “Findings,” of Airbus AOT A32L003-14, dated March 10, 2014, including Appendices 1, 2, and 3, to Airbus at the address specified in Appendix 2 of Airbus AOT A32L003-14, dated March 10, 2014.

(ii) Within 30 days after accomplishing the gap check, repair using a method approved by the Manager, International Branch, ANM-116, Transport Airplane Directorate, FAA; or the European Aviation Safety Agency (EASA); or Airbus's EASA Design Organization Approval (DOA). If approved by the DOA, the approval must include the DOA-authorized signature.

(i) New Reporting of Inspection Results

For airplanes on which a gap check specified in paragraph (h) of this AD has been done: Except as required by paragraph (h)(2)(i) of this AD, at the applicable time specified in paragraphs (i)(1) and (i)(2) of this AD, report all findings (including no findings) to Airbus, in accordance with Airbus AOT A32L003-14, dated March 10, 2014, including Appendices 1, 2, and 3, (the issue date is not specified on the appendices).

(1) If the gap check was done on or after the effective date of this AD: Submit the report within 30 days after the inspection.

(2) If the gap check was done before the effective date of this AD: Submit the report within 30 days after the effective date of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

(1) Refer to Mandatory Continuing Airworthiness Information (MCAI) European Aviation Safety Agency Airworthiness Directive 2014-0066 (Corrected March 20, 2014), for related information. This MCAI may be found in the AD docket on the Internet at http://www.regulations.gov by searching for and locating Docket No. FAA-2014-0584.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on August 15, 2014.
Jeffrey E. Duven,
Manager, Transport Airplane Directorate, Aircraft Certification Service.

[FR Doc. 2014-20262 Filed 8-25-14; 8:45 am]

BILLING CODE 4910-13-P